DEPARTMENT OF AGRICULTURE

Forest Service

Beech Fork Coal Lease and Project Specific Forest Plan Amendment

AGENCY: Forest Service, USDA.

ACTION: Notice of intent to prepare an environmental impact statement, a Land Resource Management Plan (LRMP) amendment, issue a call for coal and other resource information, and notice of public meeting.

SUMMARY: The U.S. Forest Service (USFS) will prepare an environmental impact statement (EIS) to analyze the environmental impacts of leasing three federal coal reserve tracts. The three tracts total 1,210.44 acres and underlie lands administered by the USFS. The proposed development of the three federal coal reserve tracts involves underground mining of coal using room-and-pillar mining methods. No surface disturbance related to mine openings, haul roads, or processing will occur on the federal tracts. The tracts are adjacent to an existing underground coal mine on private lands.

In conjunction with the EIS, a Land Resource Management Plan Amendment will be prepared in a cooperative effort between the USFS, Bureau of Land Management (BLM) and the Office of Surface Mining (OSM). As part of the initiation of the LRMP Amendment, a Call for Coal and Other Resource Information is being made. This data request solicits (1) information on the coal resource development potential of the three proposed tracts and (2) resources that may be affected by coal development for lands in the project area.

Authority: The Mineral Leasing Act of 1920 (MLS) authorizes the leasing of federal coal in tracts that permit the mining of all economically extractable coal. The Daniel Boone National Forest Land Resource Management Plan provides overall guidance for land management activities, including extraction of mineral resources. The Forest Plan provides for the consideration of lease proposals in the project area and directs that special stipulations be used to protect surface resources. The LRMP Amendment is being prepared to update the 1985 Forest Plan to address leasing of two of the three tracts, as the Tennessee Valley Authority previously owned them.

Since the passage of the MLA, the federal government has had the authority to lease minerals on federal lands. The act requires that the lands be included in a comprehensive land use plan, and the lease be compatible with the plan and meet the requirements of the National Environmental Policy Act of 1969 (NEPA).

Executive Order 13212, May 18, 2001 is intended to improve the internal management of the federal government in dealing with processing energy-related projects in a timely manner to aid the flow of domestic mineral production. The Forest Plan, as noted previously, identifies standards and guidelines, some of which are applicable to minerals activities. The Daniel Boone National Forest is presently preparing a revision to the Forest Plan that will be accompanied by its own EIS. However, 42 United States Code (USC) Section 885 does not permit the Secretary of Agriculture to delay processing of lease applications pending the completion of the revised Forest Plan. The current Forest Plan guides management of this national forest until the revised plan is completed and the administrative appeal process has ended. The Forest Service is publishing this Notice of Intent pursuant to the Council on Environmental Quality implementing regulations of the National Environmental Policy Act at 40 CFR 1501.7.

Date Comments Are Due: Comments concerning the scope of this planning project and responses to the Call for Coal and Other Resource Information must be received by March 15, 2003. The Draft LRMP Amendment and EIS is expected to be completed in May 2003 and the Final LRMP Amendment and EIS is expected to be completed in September 2003.

Send Comments to: Submit written comments to Corey Miller, Daniel Boone National Forest, 1700 Bypass Road, Winchester, KY 40391. Comments may also be sent by fax at (859) 744-1568; or by electronically to cmiller09@fs.fed.us.

FOR FURTHER INFORMATION CONTACT: Corey Miller is the Interdisciplinary Team Leader for this proposed action. He can be reached by US mail at the Daniel Boone National Forest, 1700 Bypass Road, Winchester, KY 40391; by phone at (859) 745-3149; or by e-mail at cmiller09@fs.fed.us.

Lead and Cooperating Agencies: The U.S. Department of Agriculture Forest Service, Daniel Boone National Forest is the lead agency. There will be two cooperating agencies associated with this project—U.S. Department of the Interior (USDI) Bureau of Land Management (BLM), Jackson Field Office, Jackson, MS and the USDI Office of Surface Mining (OSM), Lexington, KY.

Responsible Officials: The Forest Supervisor is the responsible official from the Forest Service for this project. The District Manager—Jackson Field Office is the responsible official from the BLM for this project. The Field Office Director—Lexington, Kentucky is the responsible OSM official for this project.

Decision To Be Made: The responsible official for the Daniel Boone National Forest will determine if the leasing of federal coal tracts underlying these National Forest System lands will occur after the LRMP Amendment and EIS in prepared and what stipulations should be applied if a lease are issued.

The Bureau of Land Management has the responsibility to address coal lease applications (coal lease sales) on federal mineral reserves. In consultation with the USFS, the responsible official for the BLM will decide whether or not to offer the tracts for competitive leasing, and under what terms, conditions and stipulations.

The Office of Surface Mining will be responsible for providing recommendations to the Secretary of the Interior regarding approval, disapproval, or conditional approval of the mine plan on lands contained within the federal lease area. If it is determined that there may be surface impacts resulting from mining in the proposed lease area, the Office of Surface Mining, with input from the U.S. Forest Service, will also be responsible for providing recommendations to the Secretary of the Interior concerning the issuance of findings as to whether or not the proposed lease and mining areas contain significant recreational, timber, economic or other values that may be incompatible with the proposed mining activities.

SUPPLEMENTARY INFORMATION: Purpose and Need for the Proposal: The purpose and need for the EIS is to determine if federal coal will be leased in response to the lease application submitted for this federal coal. Private coal leases, permitted by the state, surround the proposed federal coal lease tracts. The leasing of this coal would allow for the development of the private and federal coal resources in an economic and efficient manner and would maximize the recovery of the coal.

Scoping Process: Scoping is the process used to determine the scope of issues to be addressed and for identifying the significant issues related to this project. Public involvement is an integral component of coping. The public will be contacted in several different ways, provided information about this project, and given an opportunity to provide input on it. Information will be sent to a mailing list of individuals, groups, and agencies that are known to have an interest in this project or have previously expressed an interest in projects of this nature or general activities in the project area.

In addition to the publication of this Notice of Intent, legal notices will be published in the Lexington (KY) Herald-Leader and the Manchester (KY) Times.

A Public coping open house meeting will be held at the Leslie County Extension Office at 22045 Main Street in Hyden, KY on March 10, 2003 from 6 PM to 9 PM.

Additional hearings pursuant to Title 43 Code of Federal Regulations (CFR) Section 1610.2 and 43 CFR 3425.4, will be announced through the Federal Register, local news media and web sites at least 15 days prior to the event.

Preliminary Issues: Preliminary issues of concern include subsidence, and changes in the local hydrologic regime and water quality. The potential for surface and ground water resource impacts will be studied in the EIS.

Preliminary Alternatives: The proposed development of the federal coal reserve tracts involves an economic and efficient method of mining the resource. Other preliminary alternatives include the No Action alternative, which is a rejection of the Proposed Action to mine the federal coal. The adjoining private coal resource leases that surround the three federal tracts have been permitted, and the coal underlying those leases would be mined at a reduced level.

Permits or Licenses Required: A permit is required from the State Department of Surface Mining Reclamation and Enforcement prior to any development of coal resources.

Unsuitability Criteria: The information addressing the Unsuitability Criteria is listed in 43 CFR 3461. Application of the unsuitability criteria will result in a preliminary review of Daniel Boone National Forest lands for leasing. The determination relates only to the specific resources and uses addressed in the 20 unsuitability criteria. Section 43 CFR 3461.1 provides for an exemption in the application of the unsuitability criteria. However, in this case the exemption isn't met, because of the surface impacts resulting from subsidence from underground mines. The unsuitability criteria will be addressed in the EIS.

Lands within the project area, which are acceptable for further leasing consideration after application of the unsuitability criteria will then be addressed in regards to other resource values and uses that could be affected by lease issuance.

Comments Requested: This Notice of Intent initiates the scoping process that begins the preparation of the EIS. As part of the scoping process, the USFS is requesting comments on the proposed action. Comments received will be part of the public record on this project and will be available for public inspection.

Estimated Dates for DEIS and FEIS: The DEIS is expected to be filed with the Environmental Protection Agency and to be available for public review and comment by May 2003. At that time, The Environmental Protection Agency (EPA) will publish a Notice of Availability (NOA) of the DEIS in the Federal Register. The comment period on the DEIS will be a minimum of 45 days from the date the EPA publishes the NOA in the Federal Register.

The Forest Service believes, at this early stage, it is important to give reviewers notice of several court rulings related to public participation in the environmental review process. Firstly, reviewers of the draft EIS must structure their participation in the environmental review of the proposal so that it is meaningful and alerts an agency to the reviewer's position and concerns (Vermont Yankee Nuclear Power Corp. v. NRDC, 435 U.S. 519, 553 (1978)) Also, environmental objections that could be raised at the draft EIS stage, but are not raised until after completion of the final EIS, may be waived or dismissed by the courts (City of Angoon v. Hodel, 803 F.2d 1016, 1022 (9th Cir. 1986) and Wisconsin Heritages, Inc. v. Harris. 490 F. Supp. 1334, 1338 (E.D. Wis. 1980)). Because of these court rulings, it is very important that those interested in this project participate by the close of the scoping comment period, so that substantive comments are made available to the Forest Service at a time when the comments can be meaningfully considered and responded to in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the draft EIS. Reviewers may wish to refer to the Council on Environmental Quality Regulations for implementing the procedural provisions of the National Environmental Policy Act at 40 CFR 1503.3 in addressing these points.

After the comment period ends on the DEIS, the comments will be analyzed, considered, and responded to by the Forest Service in preparing the FEIS. The FEIS is scheduled to be completed in September 2003. The responsible official will consider the comments, responses, environmental consequences discussed in the FEIS, and applicable laws, regulations, and policies in making a decision regarding this proposed action.

The responsible official will document the decision and reasons for the decision in a Record of Decision. That decision will be subject to appeal in accordance with 36 CFR part 215.

Dated: February 6, 2003.
Benjamin T. Worthington,
Forest Supervisor, Daniel Boone National Forest.

[FR Doc. 03-3470 Filed 2-12-03; 8:45 am]

BILLING CODE 3410-11-M